DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on July 22, 2005. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, P.O. Box 25007, Denver, Colorado 80225-0007; telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

The March 10, 2005, notice should be used as a reference point to identify changes. The numbering system in this notice corresponds with the numbering system in the March 10, 2005, notice.

Definitions of Abbreviations Used in this Document

BCP Boulder Canyon Project

Reclamation Bureau of Reclamation

CAP Central Arizona Project

CVP Central Valley Project

CRSP Colorado River Storage Project

FR Federal Register

IDD Irrigation and Drainage District

ID Irrigation District

M&I Municipal and Industrial

NMISC New Mexico Interstate Stream Commission

O&M Operation and Maintenance

P-SMBP Pick-Sloan Missouri Basin Program

PPR Present Perfected Right

SOD Safety of Dams

SRPA Small Reclamation Projects Act of 1956

WD Water District

Pacific northwest region: Bureau of Reclamation, 1150 North Curtis Road, Suite 100, Boise, Idaho 83706-1234, telephone 208-378-5344.

New contract action:

7. Lake Lowell water users, Boise Project, Idaho-Oregon: Repayment contracts for reimbursable cost of SOD modifications to Deer Flat Dam.

Modified contract action:

16. Eighteen irrigation water user entities, Boise Project, Idaho: Long-term renewal and/or conversion of 15 irrigation water service contracts for supplemental irrigation use of up to 57,318 acre-feet of storage space in Lucky Peak Reservoir, a Corps of Engineers' project on the Boise River, Idaho.

Mid-pacific region: Bureau of Reclamation, 2800 Cottage Way, Sacramento, California 95825-1898, telephone 916-978-5250.

New contract action:

43. Eighteen contractors in the Klamath Project, Oregon: Amendment of 18 repayment contracts or negotiation of new contracts to allow for recovery of additional capital costs for the Klamath Project. These contract actions will be accomplished through amendments to the existing repayment contracts or negotiation of new contracts.

Modified contract action:

2. Contractors from the American River Division, Cross Valley Canal, Delta Division, San Felipe Division, and West San Joaquin Division; CVP; California: Renewal of 28 long-term water service contracts; water quantities for these contracts total in excess of 2.1M acre-feet. These contract actions will be accomplished through long-term renewal contracts pursuant to Public Law 102-575. Prior to completion of negotiation of long-term renewal contracts, existing interim renewal water service contracts may be renewed through successive interim renewal of contracts. Execution of long-term renewal contracts have been completed for the Sacramento River, Friant, Shasta, and Trinity River Divisions. Long-term renewal contract execution is continuing for the other contractors.

Discontinued contract action:

22. City of Vallejo, Solano Project, California: Execution of long-term Warren Act contract for conveyance of nonproject water. This contract will allow Solano Project facilities to be used to deliver nonproject water to the City of Vallejo for use within its service area.

Completed contract actions:

2. Contractors from the American River Division, Cross Valley Canal, Delta Division, Friant Division, Sacramento River Division, San Felipe Division, Shasta Division, Trinity River Division, and West San Joaquin Division; CVP; California: Renewal of up to 114 long-term water service contracts; water quantities for these contracts total in excess of 3.4M acre-feet. These contract actions will be accomplished through long-term renewal contracts pursuant to Public Law 102-575. Prior to completion of negotiation of long-term renewal contracts, existing interim renewal water service contracts may be renewed through successive interim renewal of contracts. Execution of long-term renewal contracts have been completed for the Friant, Shasta, and Trinity River Divisions. Long-term renewal of the remaining 28 contracts for 2.1M acre-feet of water is continuing.

32. Widren WD, CVP, California: Proposed assignment of up to 2,900 acre-feet of Widren WD's CVP water to Westlands WD for irrigation use. Contract executed May 27, 2005.

Lower Colorado region: Bureau of Reclamation, PO Box 61470 (Nevada Highway and Park Street), Boulder City, Nevada 89006-1470, telephone 702-293-8081.

New contract action:

43. Mohave County Water Authority, BCP, Arizona: Amend contract No. 04-XX-30-W0431 to provide for a change in type and place of use.

Modified contract actions:

3. Ogram Boys Enterprises, Inc., BCP, Arizona: Colorado River water delivery contract for 924 acre-feet of Colorado River water per year as recommended by the Arizona Department of Water Resources.

5. Miscellaneous PPR No. 11, BCP, Arizona: Assign PPR from Holpal to First American Title Insurance Agency of Mohave, Inc.

Completed contract actions:

3. Ogram Boys Enterprises, Inc., BCP, Arizona: Colorado River water delivery contract for 924 acre-feet of Colorado River water per year as recommended by the Arizona Department of Water Resources.

5. Miscellaneous PPR No. 11, BCP, Arizona: Assign PPR from Holpal to First American Title Insurance Agency of Mohave, Inc.

35. Yuma County Water Users Association, BCP, Arizona: Supplemental contract for the O&M of the Yuma Project, Valley Division.

Upper Colorado Region: Bureau of Reclamation, 125 South State Street, Room 6107, Salt Lake City, Utah 84138-1102, telephone 801-524-3864.

New contract actions:

1.(g) National Park Service, Aspinall Storage Unit, CRSP: The National Park Service has requested a 40-year water service contract for 3 acre-feet of water out of Blue Mesa Reservoir.

1.(h) Joseph Foran, Aspinall Storage Unit, CRSP: Mr. Foran has requested a 40-year water service contract for 25 acre-feet of water out of Blue Mesa Reservoir. Mr. Foran has submitted an augmentation plan to Water District 4, case number pending.

32. San Juan-Chama Project, Albuquerque Area Office: Proposed conversion of six water service contracts to repayment contracts. Contractors requesting such conversions are the City of Santa Fe, County of Santa Fe, County of Los Alamos, City of Espanola, Town of Taos, Village of Taos Ski Valley, and Town of Los Lunas.

33. West Divide Water Conservancy District: The West Divide Water Conservancy District and the Silt Water Conservancy District have requested a nonproject irrigation carriage contract (40-year) to have 2 cfs of their direct flow irrigation water rights diverted into and delivered through, existing Silt pump canal, a feature of the Silt Project delivery structures.

Modified contract action:

2. San Juan-Chama Project, New Mexico: The United States is holding the remaining 2,990 acre-feet of project water for potential use in Indian water rights settlements in New Mexico.

Completed contract actions:

1.(d) United Companies, Aspinall Storage Unit, CRSP: United Companies has requested 22.0 acre-feet of M&I water out of Blue Mesa Reservoir for four gravel pits. Contract executed June 8, 2005.

1.(e) Downy Excavating, Inc., Aspinall Storage Unit, CRSP: Downy Excavating, Inc., has requested a 40-year water service contract for 2 acre-feet of water out of Blue Mesa Reservoir. Downy Excavation has submitted their augmentation plan to Water District 4, Case No. 97CW49. Contract executed July 12, 2005.

1.(f) Bowie Resources, LLC, Aspinall Storage Unit, CRSP: Bowie Resources, LLC has requested a 40-year water service contract for 105 acre-feet of water out of Blue Mesa Reservoir. Bowie Resources has submitted their augmentation plan to Water District 4, Case No. 02CW77. Contract executed July 8, 2005.

Great Plains Region: Bureau of Reclamation, PO Box 36900, Federal Building, 316 North 26th Street, Billings, Montana 59107-6900, telephone 406-247-7752.

New contract actions:

58. Individual developer in the Angostura Unit, P-SMBP, South Dakota: Negotiate M&I water service contract with developer for up to ten, 10-acre tracts of land within Angostura ID.

59. Nancy Ray, Lower Marias Unit, P-SMBP, Montana: Initiating a long-term contract for up to 144 acre-feet of storage water from Tiber Reservoir to irrigate 72 acres. The current contract expires December 31, 2005.

Modified contract actions:

20. Glendo Unit, P-SMBP, Wyoming: Amendments to long-term water service contracts with Burbank Ditch, New Grattan Ditch Company, Torrington ID, Lucerne Canal and Power Company, and Wright and Murphy Ditch Company.

21. Glendo Unit, P-SMBP, Nebraska: Amendments to long-term water service contracts with Bridgeport, Enterprise, and Mitchell IDs, and Central Nebraska Public Power and ID.

25. Clark Canyon Water Supply Company, East Bench Unit, P-SMBP, Montana: Initiating renewal of contract No. 14-06-600-3592 which expires December 31, 2005. Current contract may be amended to extend the term not to exceed an additional 2 years pursuant to Section 208 of the 2005 Consolidated Appropriations Act if necessary and agreed to by both parties.

26. East Bench ID, East Bench Unit, P-SMBP, Montana: Initiating renewal of contract No. 14-06-600-3593 which expires December 31, 2005. Current contract may be amended to extend the term not to exceed an additional 2 years pursuant to Section 208 of the 2005 Consolidated Appropriations Act if necessary and agreed to by both parties.

Discontinued contract actions:

47. East Bench ID, East Bench Unit, P-SMBP, Montana: The district requested a deferment of its 2005 construction obligation. A request was prepared to amend Contract No. 14-06-600-3593 to defer payments in accordance with the Act of September 21, 1959. The district withdrew this deferment request on July 26, 2005. No further action is necessary.

49. Frenchman Valley ID; Frenchman Unit, Frenchman-Cambridge Division, P-SMBP; Culbertson, Nebraska: The district requested a deferment of its 2005 construction obligation in accordance with the Act of September 21, 1959. Reclamation denied this deferment request. No further action is necessary.

Completed contract action:

45. Belle Fourche ID, Belle Fourche Project, P-SMBP, South Dakota: Temporary contract for a supplemental water supply from Keyhole Reservoir.

Dated: October 7, 2005.
Roseann Gonzales,
Director, Office of Program and Policy Services.

[FR Doc. 05-21695 Filed 11-1-05; 8:45 am]

BILLING CODE 4310-MN-P